DEPARTMENT OF DEFENSE

Department of the Air Force

Air University Board of Visitors Meeting

ACTION: Notice of open meeting.

SUMMARY: The purpose of the meeting is to give the board an opportunity to discuss Air University's proposed reorganization and to present to the Commander of Air University a report of their recommendations concerning the reorganization.

DATES: 18 June 2007, 11 PST (1 CST), telephone conference call (electronic meeting), 1-800-953-9388.

FOR FURTHER INFORMATION: Contact Dr. Dorothy Reed, Chief of Academic Affairs, Air University Headquarters, Maxwell Air Force Base, Alabama 36112-6335, telephone (334)-953-5159

BAO-ANH Trinh,
Air Force Federal Register Liaison Officer.

[FR Doc. E7-10439 Filed 5-30-07; 8:45 am]

BILLING CODE 5001-05-P